DEPARTMENT OF THE INTERIOR

Fish and Wildlife Service

50 CFR Part 17

[4500030115]

Endangered and Threatened Wildlife and Plants; 90-Day Findings on 31 Petitions

AGENCY: Fish and Wildlife Service, Interior.

ACTION: Notice of petition findings and initiation of status reviews.

SUMMARY: We, the U.S. Fish and Wildlife Service (Service), announce 90-day findings on various petitions to list 30 species and one petition that describes itself as a petition to reclassify one species under the Endangered Species Act of 1973, as amended (Act). Based on our review, we find that eight petitions do not present substantial scientific or commercial information indicating that the petitioned actions may be warranted, we find that one petition does not present substantial information that the petitioned entity may be a listable entity under the Act, and we find that one petition does not present substantial information that the petitioned entity may be a listable entity under the Act and does not present substantial scientific or commercial information indicating that the petitioned action may be warranted, and we are not initiating status reviews in response to these petitions. We refer to these as “not-substantial petition findings.” Based on our review, we find that 21 petitions present substantial scientific or commercial information indicating that the petitioned actions may be warranted. Therefore, with the publication of this document, we are initiating a review of the status of each of these species to determine if the petitioned actions are warranted. To ensure that these status reviews are comprehensive, we are requesting scientific and commercial data and other information regarding these species. Based on the status reviews, we will issue 12-month findings on the petitions, which will address whether the petitioned action is warranted, as provided in section 4(b)(3)(B) of the Act.

DATES: To allow us adequate time to conduct the status reviews, we request that we receive information on or before August 31, 2015. Information submitted electronically using the Federal eRulemaking Portal (see ADDRESSES, below) must be received by 11:59 p.m. Eastern Time on the closing date.

ADDRESSES: Not-substantial petition findings: The not-substantial petition findings announced in this document are available on http://www.regulations.gov under the appropriate docket number (see Table 1, below). Supporting information in preparing these findings is available for public inspection, by appointment, during normal business hours by contacting the appropriate person, as specified under FOR FURTHER INFORMATION CONTACT.

Table 1—Not-Substantial Petition Findings
Species | Docket No. | Docket link
Blue Ridge gray-cheeked salamander | FWS-R4-ES-2015-0042 | http://www.regulations.gov/#!docketDetail;D=FWS-R4-ES-2015-0042
Caddo Mountain salamander | FWS-R4-ES-2015-0043 | http://www.regulations.gov/#!docketDetail;D=FWS-R4-ES-2015-0043
California giant salamander | FWS-R8-ES-2015-0044 | http://www.regulations.gov/#!docketDetail;D=FWS-R8-ES-2015-0044
Colorado checkered whiptail | FWS-R6-ES-2015-0048 | http://www.regulations.gov/#!docketDetail;D=FWS-R6-ES-2015-0048
Distinct population segment of North American wild horse | FWS-R8-ES-2015-0049 | http://www.regulations.gov/#!docketDetail;D=FWS-R8-ES-2015-0049
Gray wolf, excluding Mexican wolf, in the conterminous U.S. | FWS-HQ-ES-2015-0072 | http://www.regulations.gov/#!docketDetail;D=FWS-HQ-ES-2015-0072
Olympic torrent salamander | FWS-R1-ES-2015-0056 | http://www.regulations.gov/#!docketDetail;D=FWS-R1-ES-2015-0056
Pigeon Mountain salamander | FWS-R4-ES-2015-0058 | http://www.regulations.gov/#!docketDetail;D=FWS-R4-ES-2015-0058
Weller's salamander | FWS-R4-ES-2015-0065 | http://www.regulations.gov/#!docketDetail;D=FWS-R4-ES-2015-0065
Wingtail crayfish | FWS-R4-ES-2015-0067 | http://www.regulations.gov/#!docketDetail;D=FWS-R4-ES-2015-0067

Status reviews: You may submit information on species for which a status review is being initiated (see Table 2, below) by one of the following methods:

(1) Electronically: Go to the Federal eRulemaking Portal: http://www.regulations.gov. In the Search box, enter the appropriate docket number (see Table 2, below). Then click the Search button. You may submit information by clicking on “Comment Now!” If your information will fit in the provided comment box, please use this feature of http://www.regulations.gov, as it is most compatible with our information review procedures. If you attach your information as a separate document, our preferred file format is Microsoft Word. If you attach multiple comments (such as form letters), our preferred format is a spreadsheet in Microsoft Excel.

(2) By hard copy: Submit by U.S. mail or hand-delivery to: Public Comments Processing, Attn: [Insert appropriate docket number; see table below]; U.S. Fish and Wildlife Service, MS: BPHC, 5275 Leesburg Pike; Falls Church, VA 22041-3803.

We request that you send information only by the methods described above. We will post all information received on http://www.regulations.gov. This generally means that we will post any personal information you provide us (see the Request for Information section, below, for more details).

Table 2—Substantial Petition Findings
Species | Docket number | Docket link
Alligator snapping turtle | FWS-R4-ES-2015-0038 | http://www.regulations.gov/#!docketDetail;D=FWS-R4-ES-2015-0038
Apalachicola kingsnake | FWS-R4-ES-2015-0039 | http://www.regulations.gov/#!docketDetail;D=FWS-R4-ES-2015-0039
Arizona toad | FWS-R2-ES-2015-0040 | http://www.regulations.gov/#!docketDetail;D=FWS-R2-ES-2015-0040
Blanding's turtle | FWS-R3-ES-2015-0041 | http://www.regulations.gov/#!docketDetail;D=FWS-R3-ES-2015-0041
Cascade Caverns salamander | FWS-R2-ES-2015-0045 | http://www.regulations.gov/#!docketDetail;D=FWS-R2-ES-2015-0045
Cascades frog | FWS-R1-ES-2015-0046 | http://www.regulations.gov/#!docketDetail;D=FWS-R1-ES-2015-0046
Cedar Key mole skink | FWS-R4-ES-2015-0047 | http://www.regulations.gov/#!docketDetail;D=FWS-R4-ES-2015-0047
Foothill yellow-legged frog | FWS-R8-ES-2015-0050 | http://www.regulations.gov/#!docketDetail;D=FWS-R8-ES-2015-0050
Gopher frog | FWS-R4-ES-2015-0051 | http://www.regulations.gov/#!docketDetail;D=FWS-R4-ES-2015-0051
Green salamander | FWS-R4-ES-2015-0052 | http://www.regulations.gov/#!docketDetail;D=FWS-R4-ES-2015-0052
Illinois chorus frog | FWS-R3-ES-2015-0053 | http://www.regulations.gov/#!docketDetail;D=FWS-R3-ES-2015-0053
Kern Canyon slender salamander | FWS-R8-ES-2015-0054 | http://www.regulations.gov/#!docketDetail;D=FWS-R8-ES-2015-0054
Key ringneck snake | FWS-R4-ES-2015-0055 | http://www.regulations.gov/#!docketDetail;D=FWS-R4-ES-2015-0055
Oregon slender salamander | FWS-R1-ES-2015-0057 | http://www.regulations.gov/#!docketDetail;D=FWS-R1-ES-2015-0057
Relictual slender salamander | FWS-R8-ES-2015-0059 | http://www.regulations.gov/#!docketDetail;D=FWS-R8-ES-2015-0059
Rim Rock crowned snake | FWS-R4-ES-2015-0060 | http://www.regulations.gov/#!docketDetail;D=FWS-R4-ES-2015-0060
Rio Grande cooter | FWS-R2-ES-2015-0061 | http://www.regulations.gov/#!docketDetail;D=FWS-R2-ES-2015-0061
Silvery phacelia | FWS-R1-ES-2015-0062 | http://www.regulations.gov/#!docketDetail;D=FWS-R1-ES-2015-0062
Southern hog-nosed snake | FWS-R4-ES-2015-0063 | http://www.regulations.gov/#!docketDetail;D=FWS-R4-ES-2015-0063
Spotted turtle | FWS-R5-ES-2015-0064 | http://www.regulations.gov/#!docketDetail;D=FWS-R5-ES-2015-0064
Western spadefoot toad | FWS-R8-ES-2015-0066 | http://www.regulations.gov/#!docketDetail;D=FWS-R8-ES-2015-0066

FOR FURTHER INFORMATION CONTACT:

Species | Contact information
Alligator snapping turtle | Andreas Moshogianis; (404) 679-7119
Apalachicola kingsnake | Andreas Moshogianis; (404) 679-7119
Arizona toad | Michelle Shaughnessy; (505) 248-6920
Blanding's turtle | Laura Ragan; (612) 713-5350
Blue Ridge gray-cheeked salamander | Susan Cameron; (828) 258-3939, ext. 224
Caddo Mountain salamander | Andreas Moshogianis; (404) 679-7119
California giant salamander | Dan Russell; (916) 414-6647
Cascade Caverns salamander | Michelle Shaughnessy; (505) 248-6920
Cascades frog | Paul Henson; (503) 231-6179
Cedar Key mole skink | Andreas Moshogianis; (404) 679-7119
Colorado checkered whiptail | Leslie Ellwood; (303) 236-4747
Distinct population segment of North American wild horse | Doug Krofta; (703) 358-2527
Foothill yellow-legged frog | Dan Russell; (916) 414-6647
Gopher frog | Andreas Moshogianis; (404) 679-7119
Gray wolf, excluding Mexican wolf, in the conterminous U.S | Don Morgan; (703) 358-2444
Green salamander | Andreas Moshogianis; (404) 679-7119
Illinois chorus frog | Laura Ragan; (612) 713-5350
Kern Canyon slender salamander | Dan Russell; (916) 414-6647
Key ringneck snake | Andreas Moshogianis; (404) 679-7119
Olympic torrent salamander | Eric Rickerson; (360) 753-9440
Oregon slender salamander | Paul Henson; (503) 231-6179
Pigeon Mountain salamander | Andreas Moshogianis; (404) 679-7119
Relictual slender salamander | Dan Russell; (916) 414-6647
Rim Rock crowned snake | Andreas Moshogianis; (404) 679-7119
Rio Grande cooter | Michelle Shaughnessy; (505) 248-6920
Silvery phacelia | Paul Henson; (503) 231-6179
Southern hog-nosed snake | Andreas Moshogianis; (404) 679-7119
Spotted turtle | Wende Mahaney; (207) 866-3344
Weller's salamander | Susan Cameron; (828) 258-3939, ext. 224
Western spadefoot toad | Dan Russell; (916) 414-6647
Wingtail crayfish | Patty Kelly; (850) 769-0552, x 228

If you use a telecommunications device for the deaf (TDD), please call the Federal Information Relay Service (FIRS) at 800-877-8339

If you use a telecommunications device for the deaf (TDD), please call the Federal Information Relay Service (FIRS) at 800-877-8339.

SUPPLEMENTARY INFORMATION:

Request for Information

When we make a finding that a petition presents substantial information indicating that listing, reclassification, or delisting a species may be warranted, we are required to promptly review the status of the species (status review). For the status review to be complete and based on the best available scientific and commercial information, we request information on alligator snapping turtle, Apalachicola kingsnake, Arizona toad, Blanding's turtle, Cascade Caverns salamander, Cascades frog, Cedar Key mole skink, foothill yellow-legged frog, gopher frog, green salamander, Illinois chorus frog, Kern Canyon slender salamander, Key ringneck snake, Oregon slender salamander, relictual slender salamander, Rim Rock crowned snake, Rio Grande cooter, silvery phacelia, southern hog-nosed snake, spotted turtle, and western spadefoot toad from governmental agencies, Native American Tribes, the scientific community, industry, and any other interested parties. We seek information on:

(1) The species' biology, range, and population trends, including:

(a) Habitat requirements;

(b) Genetics and taxonomy;

(c) Historical and current range, including distribution patterns;

(d) Historical and current population levels, and current and projected trends; and

(e) Past and ongoing conservation measures for the species, its habitat, or both.

(2) The factors that are the basis for making a listing, reclassification, or delisting determination for a species under section 4(a)(1) of the Act (16 U.S.C. 1531 et seq.), which are:

(a) The present or threatened destruction, modification, or curtailment of its habitat or range (Factor A);

(b) Overutilization for commercial, recreational, scientific, or educational purposes (Factor B);

(c) Disease or predation (Factor C);

(d) The inadequacy of existing regulatory mechanisms (Factor D); or

(e) Other natural or manmade factors affecting its continued existence (Factor E).

(3) The potential effects of climate change on the species and its habitat.

(4) If, after the status review, we determine that listing is warranted, we will propose critical habitat (see definition in section 3(5)(A) of the Act) under section 4 of the Act for those species that fall within the jurisdiction of the United States, to the maximum extent prudent and determinable at the time we propose to list the species. Therefore, we also specifically request data and information for the 21 species for which we are conducting status reviews on:

(a) What may constitute “physical or biological features essential to the conservation of the species,” within the geographical range occupied by the species;

(b) Where these features are currently found;

(c) Whether any of these features may require special management considerations or protection;

(d) Specific areas outside the geographical area occupied by the species that are “essential for the conservation of the species”; and

(e) What, if any, critical habitat you think we should propose for designation if the species is proposed for listing, and why such habitat meets the requirements of section 4 of the Act.

Please include sufficient information with your submission (such as scientific journal articles or other publications) to allow us to verify any scientific or commercial information you include.

Submissions merely stating support for or opposition to the actions under consideration without providing supporting information or analysis, although noted, will not be considered in making a determination. Section 4(b)(1)(A) of the Act directs that determinations as to whether any species is an endangered or threatened species must be made “solely on the basis of the best scientific and commercial data available.”

You may submit your information concerning these status reviews by one of the methods listed in the ADDRESSES section. If you submit information via http://www.regulations.gov, your entire submission—including any personal identifying information—will be posted on the Web site. If you submit a hardcopy that includes personal identifying information, you may request at the top of your document that we withhold this personal identifying information from public review. However, we cannot guarantee that we will be able to do so. We will post all hardcopy submissions on http://www.regulations.gov.

Information and supporting documentation that we received and used in preparing this finding will be available for you to review at http://www.regulations.gov, or you may make an appointment during normal business hours at the appropriate lead U.S. Fish and Wildlife Service Field Office (see FOR FURTHER INFORMATION CONTACT).

Background

Section 4(b)(3)(A) of the Act requires that we make a finding on whether a petition to list, delist, or reclassify a species presents substantial scientific or commercial information indicating that the petitioned action may be warranted. To the maximum extent practicable, we are to make this finding within 90 days of our receipt of the petition and publish our notice of the finding promptly in the Federal Register.

Our standard for substantial scientific or commercial information within the Code of Federal Regulations (CFR) with regard to a 90-day petition finding is “that amount of information that would lead a reasonable person to believe that the measure proposed in the petition may be warranted” (50 CFR 424.14(b)). If we find that substantial scientific or commercial information was presented, we are required to promptly commence a review of the status of the species, which we will subsequently summarize in our 12-month finding.

Section 4 of the Act (16 U.S.C. 1533) and its implementing regulations at 50 CFR 424 set forth the procedures for adding a species to, or removing a species from, the Federal Lists of Endangered and Threatened Wildlife and Plants. A species may be determined to be an endangered or threatened species due to one or more of the five factors described in section 4(a)(1) of the Act (see (2) under Request For Information, above).

In considering what factors might constitute threats, we must look beyond the exposure of the species to a factor to evaluate whether the species may respond to the factor in a way that causes actual impacts to the species. If there is exposure to a factor and the species responds negatively, the factor may be a threat, and, during the subsequent status review, we attempt to determine how significant a threat it is. The threat is significant if it drives, or contributes to, the risk of extinction of the species such that the species may warrant listing as an “endangered species” or a “threatened species,” as those terms are defined in the Act. However, the identification of factors that could affect a species negatively may not be sufficient for us to find that the information in the petition and our files is substantial. The information must include evidence sufficient to suggest that these factors may be operative threats that act on the species to the point that the species may meet the definition of an “endangered species” or “threatened species” under the Act.

Evaluation of a Petition To List the Alligator Snapping Turtle as an Endangered or Threatened Species Under the Act

Additional information regarding our review of this petition can be found as an appendix at http://www.regulations.gov under Docket No. FWS-R4-ES-2015-0038 under the Supporting Documents section.

Species and Range

Alligator snapping turtle (Macrochelys temminckii; previously Macroclemys temminckii); Alabama, Arkansas, Florida, Georgia, Illinois, Indiana, Iowa, Kansas, Kentucky, Louisiana, Mississippi, Missouri, Oklahoma, Tennessee, and Texas.

Petition History

On July 11, 2012, we received a petition dated July 11, 2012, from The Center for Biological Diversity, requesting that 53 species of reptiles and amphibians, including the alligator snapping turtle, be listed as endangered or threatened and critical habitat be designated under the Act. The petition clearly identified itself as such and included the requisite identification information for the petitioner, required at 50 CFR 424.14(a). This finding addresses the petition.

Finding

Based on our review of the petition and sources cited in the petition, we find that the petition presents substantial scientific or commercial information indicating that the petitioned action may be warranted for the alligator snapping turtle (Macrochelys temminckii; previously Macroclemys temminckii) based on Factors A, B, C and D. However, during our status review we will thoroughly evaluate all potential threats to the species.

Thus, for the alligator snapping turtle, the Service requests information on the five listing factors under section 4(a)(1) of the Act, including the factors identified in this finding (see Request for Information, above).

Evaluation of a Petition To List the Apalachicola Kingsake as an Endangered or Threatened Species Under the Act

Additional information regarding our review of this petition can be found as an appendix at http://www.regulations.gov under Docket No. FWS-R4-ES-2015-0039 under the Supporting Documents section.

Species and Range

Apalachicola kingsnake (Lampropeltis getula meansi); Florida

Petition History

On July 11, 2012, we received a petition dated July 11, 2012, from The Center for Biological Diversity, requesting that 53 species of reptiles and amphibians, including the Apalachicola kingsnake, be listed as endangered or threatened and critical habitat be designated under the Act. The petition clearly identified itself as such and included the requisite identification information for the petitioner, required at 50 CFR 424.14(a). This finding addresses the petition.

Finding

Based on our review of the petition and sources cited in the petition, we find that the petition presents substantial scientific or commercial information indicating that the petitioned action may be warranted for the Apalachicola kingsnake (Lampropeltis getula meansi) based on Factor A. However, during our status review we will thoroughly evaluate all potential threats to the species.

Thus, for the Apalachicola kingsnake, the Service requests information on the five listing factors under section 4(a)(1) of the Act, including the factors identified in this finding (see Request for Information, above).

Evaluation of a Petition To List the Arizona Toad as an Endangered or Threatened Species Under the Act

Additional information regarding our review of this petition can be found as an appendix at http://www.regulations.gov under Docket No. FWS-R2-ES-2015-0040 under the Supporting Documents section.

Species and Range

Arizona toad (Anaxyrus microscaphus); Arizona, California, Nevada, New Mexico, and Utah

Petition History

On July 11, 2012, we received a petition dated July 11, 2012, from the Center for Biological Diversity requesting that 53 species of reptiles and amphibians, including the Arizona toad, be listed as endangered or threatened and critical habitat be designated under the Act. The petition clearly identified itself as such and included the requisite identification information for the petitioner, required at 50 CFR 424.14(a). This finding addresses the petition.

Finding

Based on our review of the petition and sources cited in the petition, we find that the petition presents substantial scientific or commercial information indicating that the petitioned action may be warranted for the Arizona toad (Anaxyrus microscaphus) based on Factor E. However, during our status review we will thoroughly evaluate all potential threats to the species.

Thus, for the Arizona toad, the Service requests information on the five listing factors under section 4(a)(1) of the Act, including the factors identified in this finding (see Request for Information, above).

Evaluation of a Petition To List the Blanding's Turtle as an Endangered or Threatened Species Under the Act

Additional information regarding our review of this petition can be found as an appendix at http://www.regulations.gov under Docket No. FWS-R3-ES-2015-0041 under the Supporting Documents section.

Species and Range

Blanding's turtle (Emydoidea blandingii); Illinois, Iowa, Indiana, New Hampshire, New York, Maine, Massachusetts, Michigan, Minnesota, Missouri, Nebraska, Ohio, Pennsylvania, South Dakota, and Wisconsin, United States; Ontario, Quebec, and Nova Scotia, Canada.

Petition History

On July 11, 2012, we received a petition dated July 11, 2012, from the Center for Biological Diversity requesting that 53 species of reptiles and amphibians, including the Blanding's turtle, be listed as endangered or threatened and critical habitat be designated under the Act. The petition clearly identified itself as such and included the requisite identification information for the petitioner, required at 50 CFR 424.14(a). This finding addresses the petition.

Finding

Based on our review of the petition and sources cited in the petition, we find that the petition presents substantial scientific or commercial information indicating that the petitioned action may be warranted for the Blanding's turtle (Emydoidea blandingii) based on Factors A, B, C, D, and E. However, during our status review we will thoroughly evaluate all potential threats to the species.

Thus, for the Blanding's turtle, the Service requests information on the five listing factors under section 4(a)(1) of the Act, including the factors identified in this finding (see Request for Information, above).

Evaluation of a Petition To List the Blue Ridge Gray-Cheeked Salamander as an Endangered or Threatened Species Under the Act

Additional information regarding our review of this petition can be found as an appendix at http://www.regulations.gov under Docket No. FWS-R4-ES-2015-0042 under the Supporting Documents section.

Species and Range

Blue Ridge gray-cheeked salamander (Plethodon amplus); North Carolina

Petition History

On July 11, 2012, we received a petition dated July 11, 2012, from the Center for Biological Diversity, requesting that 53 species of amphibians and reptiles, including the Blue Ridge gray-cheeked salamander, be listed as endangered or threatened and critical habitat be designated under the Act. The petition clearly identified itself as such and included the requisite identification information for the petitioner, required at 50 CFR 424.14(a). This finding addresses the petition.

Finding

Based on our review of the petition and sources cited in the petition, we find that the petition does not provide substantial information indicating that listing the species may be warranted. We are not initiating a status review of this species in response to the petition. Our justification for this finding can be found as an appendix at http://www.regulations.gov under Docket No. FWS-R4-ES-2015-0042 under the “Supporting Documents” section. However, we ask that the public submit to us any new information that becomes available concerning the status of, or threats to, the Blue Ridge gray-cheeked salamander salamander or its habitat at any time (see FOR FURTHER INFORMATION CONTACT).

Evaluation of a Petition To List the Caddo Mountain Salamander as an Endangered or Threatened Species Under the Act

Additional information regarding our review of this petition can be found as an appendix at http://www.regulations.gov under Docket No. FWS-R4-ES-2015-0043 under the Supporting Documents section.

Species and Range

Caddo Mountain salamander (Plethodon caddoensis); Arkansas

Petition History

On July 11, 2012, we received a petition dated July 11, 2012, from the Center for Biological Diversity, requesting that 53 species of amphibians and reptiles, including the Caddo Mountain salamander, be listed as endangered or threatened and critical habitat be designated under the Act. The petition clearly identified itself as such and included the requisite identification information for the petitioner, required at 50 CFR 424.14(a). This finding addresses the petition.

Finding

Based on our review of the petition and sources cited in the petition, we find that the petition does not provide substantial scientific or commercial information indicating that the petitioned action may be warranted. We are not initiating a status review of this species in response to the petition. Our justification for this finding can be found as an appendix at http://www.regulations.gov under Docket No. FWS-R4-ES-2015-0043 under the “Supporting Documents” section. However, we ask that the public submit to us any new information that becomes available concerning the status of, or threats to, the Caddo Mountain salamander or its habitat at any time (see FOR FURTHER INFORMATION CONTACT).

Evaluation of a Petition To List the California Giant Salamander as an Endangered or Threatened Species Under the Act

Additional information regarding our review of this petition can be found as an appendix at http://www.regulations.gov under Docket No. FWS-R8-ES-2015-0044 under the Supporting Documents section.

Species and Range

California giant salamander (Dicamptodon ensatus); California

Petition History

On July 11, 2012, we received a petition dated July 11, 2012, from the Center for Biological Diversity requesting that 53 species of reptiles and amphibians, including the California giant salamander, be listed as endangered or threatened and critical habitat be designated under the Act. The petition clearly identified itself as such and included the requisite identification information for the petitioner, required at 50 CFR 424.14(a). This finding addresses the petition.

Finding

Based on our review of the petition and sources cited in the petition, we find that the petition does not provide substantial scientific or commercial information indicating that the petitioned action may be warranted. We are not initiating a status review of this species in response to the petition. Our justification for this finding can be found as an appendix at http://www.regulations.gov under Docket No. FWS-R8-ES-2015-0044 under the “Supporting Documents” section. However, we ask that the public submit to us any new information that becomes available concerning the status of, or threats to, the California giant salamander or its habitat at any time (see FOR FURTHER INFORMATION CONTACT).

Evaluation of a Petition To List the Cascade Caverns Salamander as an Endangered or Threatened Species Under the Act

Additional information regarding our review of this petition can be found as an appendix at http://www.regulations.gov under Docket No. FWS-R2-ES-2015-0045 under the Supporting Documents section.

Species and Range

Cascade Caverns salamander (Eurycea latitans); Texas

Petition History

On July 11, 2012, we received a petition dated July 11, 2012 from the Center for Biological Diversity, requesting that 53 species of reptiles and amphibians, including the Cascade Caverns salamander, be listed as endangered or threatened and critical habitat be designated under the Act. The petition clearly identified itself as such and included the requisite identification information for the petitioner, required at 50 CFR 424.14(a). This finding addresses the petition.

Finding

Based on our review of the petition and sources cited in the petition, we find that the petition presents substantial scientific or commercial information indicating that the petitioned action may be warranted for the Cascade Caverns salamander (Eurycea latitans) based on Factor A. However, during our status review we will thoroughly evaluate all potential threats to the species.

Thus, for the Cascade Caverns salamander, the Service requests information on the five listing factors under section 4(a)(1) of the Act, including the factors identified in this finding (see Request for Information, above).

Evaluation of a Petition To List the Cascades Frog as an Endangered or Threatened Species Under the Act

Additional information regarding our review of this petition can be found as an appendix at http://www.regulations.gov under Docket No. FWS-R1-ES-2015-0046 under the Supporting Documents section.

Species and Range

Cascades frog (Rana cascadae); California, Oregon, and Washington

Petition History

On July 11, 2012, we received a petition dated July 11, 2012, from the Center for Biological Diversity requesting that 53 species of reptiles and amphibians, including the Cascades frog, be listed as endangered or threatened and critical habitat be designated under the Act. The petition clearly identified itself as such and included the requisite identification information for the petitioner, required at 50 CFR 424.14(a). This finding addresses the petition.

Finding

Based on our review of the petition and sources cited in the petition, we find that the petition presents substantial scientific or commercial information indicating that the petitioned action may be warranted for the Cascades frog (Rana cascadae) based on Factors A, C, and E. However, during our status review we will thoroughly evaluate all potential threats to the species.

Thus, for the Cascades frog, the Service requests information on the five listing factors under section 4(a)(1) of the Act, including the factors identified in this finding (see Request for Information, above).

Evaluation of a Petition To List the Cedar Key Mole Skink as an Endangered or Threatened Species Under the Act

Additional information regarding our review of this petition can be found as an appendix at http://www.regulations.gov under Docket No. FWS-R4-ES-2015-0047 under the Supporting Documents section.

Species and Range

Cedar Key mole skink (Plestiodon egregius insularis); Florida

Petition History

On July 11, 2012, we received a petition dated July 11, 2012, from the Center for Biological Diversity requesting that 53 species of reptiles and amphibians, including the Cedar Key mole skink, be listed as endangered or threatened and critical habitat be designated under the Act. The petition clearly identified itself as such and included the requisite identification information for the petitioner, required at 50 CFR 424.14(a). This finding addresses the petition.

Finding

Based on our review of the petition and sources cited in the petition, we find that the petition presents substantial scientific or commercial information indicating that the petitioned action may be warranted for the Cedar Key mole skink (Plestiodon egregius insularis) based on Factors A, B, and E. However, during our status review we will thoroughly evaluate all potential threats to the species.

Thus, for the Cedar Key mole skink, the Service requests information on the five listing factors under section 4(a)(1) of the Act, including the factors identified in this finding (see Request for Information, above).

Evaluation of a Petition To List the Colorado Checkered Whiptail as an Endangered or Threatened Species Under the Act

Additional information regarding our review of this petition can be found as an appendix at http://www.regulations.gov under Docket No. FWS-R6-ES-2015-0048 under the Supporting Documents section.

Species and Range

Colorado checkered whiptail (Aspidoscelis neotesselata); Colorado

Petition History

On July 11, 2012, we received a petition dated July 11, 2012, from the Center for Biological Diversity, requesting that 53 species of amphibians and reptiles, including the Colorado checkered whiptail, be listed as endangered or threatened and critical habitat be designated under the Act. The petition clearly identified itself as such and included the requisite identification information for the petitioner, required at 50 CFR 424.14(a). This finding addresses the petition.

Finding

Based on our review of the petition and sources cited in the petition, we find that the petition does not provide substantial scientific or commercial information indicating that the petitioned action may be warranted. We are not initiating a status review of this species in response to the petition. Our justification for this finding can be found as an appendix at http://www.regulations.gov under Docket No. FWS-R6-ES-2015-0048 under the “Supporting Documents” section. However, we ask that the public submit to us any new information that becomes available concerning the status of, or threats to, the Colorado checkered whiptail or its habitat at any time (see FOR FURTHER INFORMATION CONTACT).

Evaluation of a Petition To List the Distinct Population Segment of North American Wild Horse as an Endangered or Threatened Species Under the Act

Additional information regarding our review of this petition can be found as an appendix at http://www.regulations.gov under Docket No. FWS-R8-ES-2015-0049 under the Supporting Documents section.

Species and Range

North American wild horse (population of the species Equus caballus); U.S. Federal public lands

Petition History

On June 17, 2014, we received a petition, dated June 10, 2014, from Friends of Animals and The Cloud Foundation, requesting that the distinct population segment (DPS) of North American wild horses on all U.S. federal public lands be listed as an endangered or threatened species under the Act. The petition clearly identified itself as such and included the requisite identification information for the petitioner(s), as required by 50 CFR 424.14(a). In an October 3, 2014, letter to the petitioner, we responded that we reviewed the information presented in the petition and did not find that the petition warranted an emergency listing. This finding addresses the petition.

Finding

Based on our review of the petition and sources cited in the petition, we find that the petition does not provide substantial information indicating the petitioned entity may qualify as a DPS and, therefore, a listable entity under section 3(16) of the Act. The petition does not present substantial information supporting the characterization of North American wild horses on all U.S. Federal public lands as a DPS, because the discreteness criteria were not met. Therefore, this population is not a valid listable entity under section 3(16) of the Act, and we are not initiating a status review in response to the petition. Our justification for this finding can be found as an appendix at http://www.regulations.gov under Docket No. FWS-R8-ES-2015-0049 under the “Supporting Documents” section. However, we ask that the public submit to us any new information that becomes available concerning the status of, or threats to, the North American wild horse or its habitat at any time (see FOR FURTHER INFORMATION CONTACT).

Evaluation of a Petition To List the Foothill Yellow-Legged Frog as an Endangered or Threatened Species Under the Act

Additional information regarding our review of this petition can be found as an appendix at http://www.regulations.gov under Docket No. FWS-R8-ES-2015-0050 under the Supporting Documents section.

Species and Range

Foothill yellow-legged frog (Rana boylii); Oregon and California

Petition History

On July 11, 2012, we received a petition dated July 11, 2012, from the Center for Biological Diversity requesting that 53 species of reptiles and amphibians, including the foothill yellow-legged frog, be listed as endangered or threatened and critical habitat be designated under the Act. The petition clearly identified itself as such and included the requisite identification information for the petitioner, required at 50 CFR 424.14(a). This finding addresses the petition.

Finding

Based on our review of the petition and sources cited in the petition, we find that the petition presents substantial scientific or commercial information indicating that the petitioned action may be warranted for the foothill yellow-legged frog (Rana boylii) based on Factors A and E. However, during our status review we will thoroughly evaluate all potential threats to the species.

Thus, for the foothill yellow-legged frog, the Service requests information on the five listing factors under section 4(a)(1) of the Act, including the factors identified in this finding (see Request for Information, above).

Evaluation of a Petition To List the Gopher Frog as an Endangered or Threatened Species Under the Act

Additional information regarding our review of this petition can be found as an appendix at http://www.regulations.gov under Docket No. FWS-R4-ES-2015-0051 under the Supporting Documents section.

Species and Range

Gopher frog (Lithobates capito); Alabama, Florida, Tennessee, Georgia, South Carolina, and North Carolina

Petition History

On July 11, 2012, we received a petition dated July 11, 2012, from the Center for Biological Diversity requesting that 53 species of reptiles and amphibians, including the gopher frog, be listed as endangered or threatened and critical habitat be designated under the Act. The petition clearly identified itself as such and included the requisite identification information for the petitioner, required at 50 CFR 424.14(a). This finding addresses the petition.

Finding

Based on our review of the petition and sources cited in the petition, we find that the petition presents substantial scientific or commercial information indicating that the petitioned action may be warranted for the gopher frog (Lithobates capito) based on Factors A, C, D, and E. However, during our status review we will thoroughly evaluate all potential threats to the species.

Thus, for the gopher frog, the Service requests information on the five listing factors under section 4(a)(1) of the Act, including the factors identified in this finding (see Request for Information, above).

Evaluation of a Petition To Reclassify the Gray Wolf, Excluding Mexican Wolf, in the Conterminous U.S. as a Threatened Species Under the Act

Additional information regarding our review of this petition can be found as an appendix at http://www.regulations.gov under Docket No. FWS-HQ-ES-2015-0072 under the Supporting Documents section.

Species and Range

Gray wolf, excluding the Mexican wolf (population of the species Canis lupus); conterminous United States.

Petition History

On January 27, 2015, we received a petition dated January 27, 2015, from the Humane Society of the United States (HSUS) and twenty-two undersigned petitioners (The Center for Biological Diversity, The Fund for Animals, Born Free USA, Friends of Animals and Their Environment, Help Our Wolves Live, The Detroit Zoological Society, Midwest Environmental Advocates, Predator Defense, National Wolfwatcher Coalition, Northwoods Alliance, Wisconsin Federated Humane Societies, Minnesota Humane Society, Howling for Wolves, Detroit Audubon Society, Sault Sainte Marie Tribe of Chippewa Indians, Wildlife Public Trust and Coexistence, Minnesota Voters for Animal Protection, Friends of the Wisconsin Wolf, Wolves of Douglas County Wisconsin, Justice for Wolves, and Wildwoods (Minnesota)), requesting that the gray wolf, excluding the Mexican wolf subspecies, be reclassified as threatened throughout the conterminous United States (U.S.) under the Act. The petition clearly identified itself as such and included the requisite identification information for the petitioner, required at 50 CFR 424.14(a). On March 10, 2015, we received electronic copies of the published references cited in the January, 27, 2015 petition from HSUS. In a March 27, 2015, letter to HSUS, we responded that we reviewed the information presented in the petition and did not find that the petition warranted an emergency listing. This finding addresses the petition.

Finding

Based on our review of the petition, we find the petition does not provide substantial scientific or commercial information indicating the petitioned entity may qualify as a DPS and, therefore, a listable entity under section 3(16) of the Act. Although any further evaluation of the petition was unnecessary because this is a sound basis for a not-substantial finding, due to the level of controversy surrounding the legal status of gray wolf under the Act and the high interest in this petition specifically we further evaluated the petition by analyzing the five listing factors under section 4(a)(1). Based on our review of the petition, sources cited in the petition, and our files we find the petition does not provide substantial scientific or commercial information indicating that gray wolves, excluding Mexican wolves, in the coterminous U.S. may be likely to become an endangered species within the foreseeable future (a threatened species) due to any one of the five listing factors. We come to the same conclusion when we consider whether collective information presented in the petition represents substantial information. The petitioner's information with respect to unoccupied suitable habitat is based on a misinterpretation of the Act. Moreover, despite making allegations with respect to disease, and small population size, the petitioners provided no information to support their claim. Inadequate existing regulatory mechanisms are not an independent source of threat, but relate to amelioration of threats under the other factors. Therefore, the petition only provides information with respect to possible overutilization from recreational hunting and trapping, and the information is not substantial. Thus the petition provides no information to combine with the information regarding possible overutilization from recreational hunting and trapping. In any case, even if the petition had presented information with respect to other sources of mortality, the existing state plans regulating take of wolves only allow take above certain population thresholds, such that if the other causes of mortality increased above certain levels, hunting and trapping would be reduced to prevent the population from dipping below those thresholds. So those plans have a built-in response to possible concerns relating to cumulative impacts. Accordingly, we are not initiating a status review in response to this petition.

Our justification for this finding can be found as an appendix at http://www.regulations.gov under Docket No. FWS-HQ-ES-2015-0072 under the “Supporting Documents” section. However, we ask that the public submit to us any new information that becomes available concerning the status of, or threats to, the gray wolf or its habitat at any time (see FOR FURTHER INFORMATION CONTACT).

Evaluation of a Petition To List the Green Salamander as an Endangered or Threatened Species Under the Act

Additional information regarding our review of this petition can be found as an appendix at http://www.regulations.gov under Docket No. FWS-R4-ES-2015-0052 under the Supporting Documents section.

Species and Range

Green salamander (Aneides aeneus); Alabama, Georgia, Indiana, Maryland, Mississippi, Ohio, Pennsylvania, North Carolina, and South Carolina.

Petition History

On July 11, 2012, we received a petition dated July 11, 2012, from the Center for Biological Diversity, requesting that 53 species of amphibians and reptiles, including the green salamander, be listed as endangered or threatened and critical habitat be designated under the Act. The petition clearly identified itself as such and included the requisite identification information for the petitioner, required at 50 CFR 424.14(a). This finding addresses the petition.

Finding

Based on our review of the petition and sources cited in the petition, we find that the petition presents substantial scientific or commercial information indicating that the petitioned action may be warranted for the green salamander (Aneides aeneus) based on Factors A, B, C, D, and E. However, during our status review we will thoroughly evaluate all potential threats to the species.

Thus, for the green salamander, the Service requests information on the five listing factors under section 4(a)(1) of the Act, including the factors identified in this finding (see Request for Information, above).

Evaluation of a Petition To List the Illinois Chorus Frog as an Endangered or Threatened Species Under the Act

Additional information regarding our review of this petition can be found as an appendix at http://www.regulations.gov under Docket No. FWS-R3-ES-2015-0053 under the Supporting Documents section.

Species and Range

Illinois chorus frog (Pseudacris illinoensis or Pseudacris streckeri illinoensis); Illinois, Missouri, and Arkansas

Petition History

On July 11, 2012, we received a petition dated July 11, 2012, from the Center for Biological Diversity requesting that 53 species of reptiles and amphibians, including the Illinois chorus frog, be listed as endangered or threatened and critical habitat be designated under the Act. The petition clearly identified itself as such and included the requisite identification information for the petitioner, required at 50 CFR 424.14(a). This finding addresses the petition.

Finding

Based on our review of the petition and sources cited in the petition, we find that the petition presents substantial scientific or commercial information indicating that the petitioned action may be warranted for the Illinois chorus frog (Pseudacris illinoensis or Pseudacris streckeri illinoensis) based on Factors A and E. However, during our status review we will thoroughly evaluate all potential threats to the species.

Thus, for the Illinois chorus frog, the Service requests information on the five listing factors under section 4(a)(1) of the Act, including the factors identified in this finding (see Request for Information, above).

Evaluation of a Petition To List the Kern Canyon Slender Salamander as an Endangered or Threatened Species Under the Act

Additional information regarding our review of this petition can be found as an appendix at http://www.regulations.gov under Docket No. FWS-R8-ES-2015-0054 under the Supporting Documents section.

Species and Range

Kern Canyon slender salamander (Batrachoseps simatus); California

Petition History

On July 11, 2012, we received a petition dated July 11, 2012, from the Center for Biological Diversity, requesting that 53 species of amphibians and reptiles, including the Kern Canyon slender salamander, be listed as endangered or threatened and critical habitat be designated under the Act. The petition clearly identified itself as such and included the requisite identification information for the petitioner, required at 50 CFR 424.14(a). This finding addresses the petition.

Finding

Based on our review of the petition and sources cited in the petition, we find that the petition presents substantial scientific or commercial information indicating that the petitioned action may be warranted for the Kern Canyon slender salamander (Batrachoseps simatus) based on Factors A, D, and E. However, during our status review we will thoroughly evaluate all potential threats to the species.

Thus, for the Kern Canyon slender salamander, the Service requests information on the five listing factors under section 4(a)(1) of the Act, including the factors identified in this finding (see Request for Information, above).

Evaluation of a Petition To List the Key Ringneck Snake as an Endangered or Threatened Species Under the Act

Additional information regarding our review of this petition can be found as an appendix at http://www.regulations.gov under Docket No. FWS-R4-ES-2015-0055 under the Supporting Documents section.

Species and Range

Key ringneck snake (Diadophis punctatus acricus); Florida

Petition History

On July 11, 2012, we received a petition dated July 11, 2012, from the Center for Biological Diversity, requesting that 53 species of amphibians and reptiles, including the Key ringneck snake, be listed as endangered or threatened and critical habitat be designated under the Act. The petition clearly identified itself as such and included the requisite identification information for the petitioner, required at 50 CFR 424.14(a). This finding addresses the petition.

Finding

Based on our review of the petition and sources cited in the petition, we find that the petition presents substantial scientific or commercial information indicating that the petitioned action may be warranted for the Key ringneck snake (Diadophis punctatus acricus) based on Factors A and E. However, during our status review we will thoroughly evaluate all potential threats to the species.

Thus, for the Key ringneck snake, the Service requests information on the five listing factors under section 4(a)(1) of the Act, including the factors identified in this finding (see Request for Information, above).

Evaluation of a Petition To List the Olympic Torrent Salamander as an Endangered or Threatened Species Under the Act

Additional information regarding our review of this petition can be found as an appendix at http://www.regulations.gov under Docket No. FWS-R1-ES-2015-0056 under the Supporting Documents section.

Species and Range

Olympic torrent salamander (Rhyacotriton olympicus); Washington

Petition History

On July 11, 2012, we received a petition dated July 11, 2012, from the Center for Biological Diversity requesting that 53 species of reptiles and amphibians, including the Olympic torrent salamander, be listed as endangered or threatened and critical habitat be designated under the Act. The petition clearly identified itself as such and included the requisite identification information for the petitioner, required at 50 CFR 424.14(a). This finding addresses the petition.

Finding

Based on our review of the petition and sources cited in the petition, we find that the petition does not provide substantial scientific or commercial information indicating that the petitioned action may be warranted. We are not initiating a status review of this species in response to the petition. Our justification for this finding can be found as an appendix at http://www.regulations.gov under Docket No. FWS-R1-ES-2015-0056 under the “Supporting Documents” section. However, we ask that the public submit to us any new information that becomes available concerning the status of, or threats to, the Olympic torrent salamander or its habitat at any time (see FOR FURTHER INFORMATION CONTACT).

Evaluation of a Petition To List the Oregon Slender Salamander as an Endangered or Threatened Species Under the Act

Additional information regarding our review of this petition can be found as an appendix at http://www.regulations.gov under Docket No. FWS-R1-ES-2015-0057 under the Supporting Documents section.

Species and Range

Oregon slender salamander (Batrachoseps wrighti; previously B. wrightorum); Oregon

Petition History

On July 11, 2012, we received a petition dated July 11, 2012, from the Center for Biological Diversity requesting that 53 species of reptiles and amphibians, including the Oregon slender salamander, be listed as endangered or threatened and critical habitat be designated under the Act. The petition clearly identified itself as such and included the requisite identification information for the petitioner, required at 50 CFR 424.14(a). This finding addresses the petition.

Finding

Based on our review of the petition and sources cited in the petition, we find that the petition presents substantial scientific or commercial information indicating that the petitioned action may be warranted for the Oregon slender salamander (Batrachoseps wrighti) based on Factors A and E. However, during our status review we will thoroughly evaluate all potential threats to the species.

Thus, for the Oregon slender salamander, the Service requests information on the five listing factors under section 4(a)(1) of the Act, including the factors identified in this finding (see Request for Information, above).

Evaluation of a Petition To List the Pigeon Mountain Salamander as an Endangered or Threatened Species Under the Act

Additional information regarding our review of this petition can be found as an appendix at http://www.regulations.gov under Docket No. FWS-R4-ES-2015-0058 under the Supporting Documents section.

Species and Range

Pigeon Mountain salamander (Plethodon petraeus); Georgia

Petition History

On July 11, 2012, we received a petition dated July 11, 2012, from the Center for Biological Diversity, requesting that 53 species of amphibians and reptiles, including the Pigeon Mountain salamander, be listed as endangered or threatened and critical habitat be designated under the Act. The petition clearly identified itself as such and included the requisite identification information for the petitioner, required at 50 CFR 424.14(a). This finding addresses the petition.

Finding

Based on our review of the petition and sources cited in the petition, we find that the petition does not provide substantial scientific or commercial information indicating that the petitioned action may be warranted. We are not initiating a status review of this species in response to the petition. Our justification for this finding can be found as an appendix at http://www.regulations.gov under Docket No. FWS-R4-ES-2015-0058 under the “Supporting Documents” section. However, we ask that the public submit to us any new information that becomes available concerning the status of, or threats to, the Pigeon Mountain salamander or its habitat at any time (see FOR FURTHER INFORMATION CONTACT).

Evaluation of a Petition To List the Relictual Slender Salamander as an Endangered or Threatened Species Under the Act

Additional information regarding our review of this petition can be found as an appendix at http://www.regulations.gov under Docket No. FWS-R8-ES-2015-0059 under the Supporting Documents section.

Species and Range

Relictual slender salamander (Batrachoseps relictus); California

Petition History

On July 11, 2012, we received a petition dated July 11, 2012, from the Center for Biological Diversity, requesting that 53 species of amphibians and reptiles, including the relictual slender salamander, be listed as endangered or threatened and critical habitat be designated under the Act. The petition clearly identified itself as such and included the requisite identification information for the petitioner, required at 50 CFR 424.14(a). This finding addresses the petition.

Finding

Based on our review of the petition and sources cited in the petition, we find that the petition presents substantial scientific or commercial information indicating that the petitioned action may be warranted for the relictual slender salamander (Batrachoseps relictus) based on Factors A, D, and E. However, during our status review we will thoroughly evaluate all potential threats to the species.

Thus, for the relictual slender salamander, the Service requests information on the five listing factors under section 4(a)(1) of the Act, including the factors identified in this finding (see Request for Information, above).

Evaluation of a Petition To List the Rim Rock Crowned Snake as an Endangered or Threatened Species Under the Act

Additional information regarding our review of this petition can be found as an appendix at http://www.regulations.gov under Docket No. FWS-R4-ES-2015-0060 under the Supporting Documents section.

Species and Range

Rim Rock crowned snake (Tantilla oolitica); Florida

Petition History

On July 11, 2012, we received a petition dated July 11, 2012, from The Center for Biological Diversity, requesting that 53 species of reptiles and amphibians, including the Rim Rock crowned snake, be listed as endangered or threatened and critical habitat be designated under the Act. The petition clearly identified itself as such and included the requisite identification information for the petitioner, required at 50 CFR 424.14(a). This finding addresses the petition.

Finding

Based on our review of the petition and sources cited in the petition, we find that the petition presents substantial scientific or commercial information indicating that the petitioned action may be warranted for the Rim Rock crowned snake (Tantilla oolitica) based on Factors A and E. However, during our status review we will thoroughly evaluate all potential threats to the species.

Thus, for the Rim Rock crowned snake, the Service requests information on the five listing factors under section 4(a)(1) of the Act, including the factors identified in this finding (see Request for Information, above).

Evaluation of a Petition To List the Rio Grande Cooter as an Endangered or Threatened Species Under the Act

Additional information regarding our review of this petition can be found as an appendix at http://www.regulations.gov under Docket No. FWS-R2-ES-2015-0061 under the Supporting Documents section.

Species and Range

Rio Grande cooter or Western River cooter (Pseudemys gorzugi); Texas and New Mexico, United States; Coahuila, Neuvo Leon, and Tamaulipas, Mexico

Petition History

On July 11, 2012, we received a petition dated July 11, 2012, from The Center for Biological Diversity, requesting that 53 species of reptiles and amphibians, including the Rio Grande cooter, be listed as endangered or threatened and critical habitat be designated under the Act. The petition clearly identified itself as such and included the requisite identification information for the petitioner, required at 50 CFR 424.14(a). This finding addresses the petition.

Finding

Based on our review of the petition and sources cited in the petition, we find that the petition presents substantial scientific or commercial information indicating that the petitioned action may be warranted for the Rio Grande cooter (Pseudemys gorzugi) based on Factors A, B, and D. However, during our status review we will thoroughly evaluate all potential threats to the species.

Thus, for the Rio Grande cooter, the Service requests information on the five listing factors under section 4(a)(1) of the Act, including the factors identified in this finding (see Request for Information, above).

Evaluation of a Petition To List Silvery Phacelia as an Endangered or Threatened Species Under the Act

Additional information regarding our review of this petition can be found as an appendix at http://www.regulations.gov under Docket No. FWS-R1-ES-2015-0062 under the Supporting Documents section.

Species and Range

Silvery phacelia (Phacelia argentea); Oregon and California

Petition History

On March 7, 2014, we received a petition dated March 7, 2014, from The Center for Biological Diversity, Oregon Wild, Friends of Del Norte, Oregon Coast Alliance, The Native Plant Society of Oregon, The California Native Plant Society, The Environmental Protection Information Center, and Klamath-Siskiyou Wildlands Center (the petitioners), requesting that silvery phacelia be listed as an endangered or threatened species and, if applicable, critical habitat be designated for this species under the Act. The petition clearly identified itself as such and included the requisite identification information for the petitioner, required at 50 CFR 424.14(a). This finding addresses the petition.

Finding

Based on our review of the petition and sources cited in the petition, we find that the petition presents substantial scientific or commercial information indicating that the petitioned action may be warranted for the silvery phacelia (Phacelia argentea) based on Factors A and D. However, during our status review we will thoroughly evaluate all potential threats to the species.

Thus, for the silvery phacelia, the Service requests information on the five listing factors under section 4(a)(1) of the Act, including the factors identified in this finding (see Request for Information, above).

Evaluation of a Petition To List the Southern Hog-Nosed Snake as an Endangered or Threatened Species Under the Act

Additional information regarding our review of this petition can be found as an appendix at http://www.regulations.gov under Docket No. FWS-R4-ES-2015-0063 under the Supporting Documents section.

Species and Range

Southern hog-nosed snake (Heterodon simus); North Carolina, South Carolina, Georgia, and Florida

Petition History

On July 11, 2012, we received a petition dated July 11, 2012, from The Center for Biological Diversity, requesting that 53 species of reptiles and amphibians, including the southern hog-nosed snake, be listed as endangered or threatened and critical habitat be designated under the Act. The petition clearly identified itself as such and included the requisite identification information for the petitioner, required at 50 CFR 424.14(a). This finding addresses the petition.

Finding

Based on our review of the petition and sources cited in the petition, we find that the petition presents substantial scientific or commercial information indicating that the petitioned action may be warranted for the southern hog-nosed snake (Heterodon simus) based on Factors A and E. However, during our status review we will thoroughly evaluate all potential threats to the species.

Thus, for the southern hog-nosed snake, the Service requests information on the five listing factors under section 4(a)(1) of the Act, including the factors identified in this finding (see Request for Information, above).

Evaluation of a Petition To List the Spotted Turtle as an Endangered or Threatened Species Under the Act

Additional information regarding our review of this petition can be found as an appendix at http://www.regulations.gov under Docket No. FWS-R5-ES-2015-0064 under the Supporting Documents section.

Species and Range

Spotted turtle (Clemmys guttata); Connecticut, Delaware, Florida, Georgia, Illinois, Maine, Maryland, Massachusetts, Michigan, Pennsylvania, New Hampshire, New York, North Carolina, Ohio, South Carolina, Vermont, Virginia, and West Virginia

Petition History

On July 11, 2012, we received a petition dated July 11, 2012, from the Center for Biological Diversity requesting that 53 species of reptiles and amphibians, including the spotted turtle, be listed as endangered or threatened and critical habitat be designated under the Act. The petition clearly identified itself as such and included the requisite identification information for the petitioner, required at 50 CFR 424.14(a). This finding addresses the petition.

Finding

Based on our review of the petition and sources cited in the petition, we find that the petition presents substantial scientific or commercial information indicating that the petitioned action may be warranted for the spotted turtle (Clemmys guttata) based on Factors A, B, D, and E. However, during our status review we will thoroughly evaluate all potential threats to the species.

Thus, for the spotted turtle, the Service requests information on the five listing factors under section 4(a)(1) of the Act, including the factors identified in this finding (see Request for Information, above).

Evaluation of a Petition To List the Weller's Salamander as an Endangered or Threatened Species Under the Act

Additional information regarding our review of this petition can be found as an appendix at http://www.regulations.gov under Docket No. FWS-R4-ES-2015-0065 under the Supporting Documents section.

Species and Range

Weller's salamander (Plethodon welleri, 1931); North Carolina, Tennessee, and Virginia

Petition History

On July 11, 2012, we received a petition dated July 11, 2012, from the Center for Biological Diversity, requesting that 53 species of amphibians and reptiles, including the Weller's salamander, be listed as endangered or threatened and critical habitat be designated under the Act. The petition clearly identified itself as such and included the requisite identification information for the petitioner, required at 50 CFR 424.14(a). This finding addresses the petition.

Finding

Based on our review of the petition and sources cited in the petition, we find that the petition does not provide substantial scientific or commercial information indicating that the petitioned action may be warranted. We are not initiating a status review of this species in response to the petition. Our justification for this finding can be found as an appendix at http://www.regulations.gov under Docket No. FWS-R4-ES-2015-0065 under the “Supporting Documents” section. However, we ask that the public submit to us any new information that becomes available concerning the status of, or threats to, the Weller's salamander or its habitat at any time (see FOR FURTHER INFORMATION CONTACT).

Evaluation of a Petition To List the Western Spadefoot Toad as an Endangered or Threatened Species Under the Act

Additional information regarding our review of this petition can be found as an appendix at http://www.regulations.gov under Docket No. FWS-R8-ES-2015-0066 under the Supporting Documents section.

Species and Range

Western spadefoot toad (Spea hammondii or Scaphiopus hammondii); California, United States; Northwestern Baja California, Mexico

Petition History

On July 11, 2012, we received a petition dated July 11, 2012, from the Center for Biological Diversity requesting that 53 species of reptiles and amphibians, including the western spadefoot toad, be listed as endangered or threatened and critical habitat be designated under the Act. The petition clearly identified itself as such and included the requisite identification information for the petitioner, required at 50 CFR 424.14(a). This finding addresses the petition.

Finding

Based on our review of the petition and sources cited in the petition, we find that the petition presents substantial scientific or commercial information indicating that the petitioned action may be warranted for the western spadefoot toad (Spea hammondii or Scaphiopus hammondii) based on Factors A and E. However, during our status review we will thoroughly evaluate all potential threats to the species.

Thus, for the western spadefoot toad, the Service requests information on the five listing factors under section 4(a)(1) of the Act, including the factors identified in this finding (see Request for Information, above).

Evaluation of a Petition To List the Wingtail Crayfish as an Endangered or Threatened Species Under the Act

Additional information regarding our review of this petition can be found as an appendix at http://www.regulations.gov under Docket No. FWS-R4-ES-2015-0067 under the Supporting Documents section.

Species and Range

Wingtail crayfish (Procambarus (Leconticambarus) latipleurum); Florida

Petition History

On January 6, 2014, we received a petition dated January 6, 2014, from the Center for Biological Diversity, requesting that the wingtail crayfish be listed as an endangered or threatened species under the Act. The petition clearly identified itself as such and included the requisite identification information for the petitioner, required at 50 CFR 424.14(a).

Finding

Based on our review of the petition and sources cited in the petition, we find that the petition does not provide substantial scientific or commercial information indicating that the petitioned action may be warranted. We are not initiating a status review of this species in response to the petition. Our justification for this finding can be found as an appendix at http://www.regulations.gov under Docket No. FWS-R4-ES-2015-0067 under the “Supporting Documents” section. However, we ask that the public submit to us any new information that becomes available concerning the status of, or threats to, the wingtail crayfish or its habitat at any time (see FOR FURTHER INFORMATION CONTACT).

Conclusion

On the basis of our evaluation of the information presented under section 4(b)(3)(A) of the Act, we have determined that the petitions summarized above for the Blue Ridge gray-cheeked salamander, Caddo Mountain salamander, California giant salamander, Colorado checkered whiptail, the distinct population segment of North American wild horse, gray wolf, excluding Mexican wolf, in the conterminous U.S., Olympic torrent salamander, Pigeon Mountain salamander, Weller's salamander, and wingtail crayfish do not present substantial scientific or commercial information indicating that the requested actions may be warranted. Therefore, we are not initiating status reviews for these species.

On the basis of our evaluation of the information presented under section 4(b)(3)(A) of the Act, we have determined that the petitions summarized above for alligator snapping turtle, Apalachicola kingsnake, Arizona toad, Blanding's turtle, Cascade Caverns salamander, Cascades frog, Cedar Key mole skink, foothill yellow-legged frog, gopher frog, green salamander, Illinois chorus frog, Kern Canyon slender salamander, Key ringneck snake, Oregon slender salamander, relictual slender salamander, Rim Rock crowned snake, Rio Grande cooter, silvery phacelia, southern hog-nosed snake, spotted turtle, and western spadefoot toad present substantial scientific or commercial information indicating that the requested actions may be warranted. Because we have found that the petitions present substantial information indicating that the petitioned actions may be warranted, we are initiating status reviews to determine whether these actions under the Act are warranted. At the conclusion of the status reviews, we will issue a 12-month finding in accordance with section 4(b)(3)(B) of the Act, as to whether or not the Service believes listing is warranted.

It is important to note that the “substantial information” standard for a 90-day finding as to whether the petitioned action may be warranted differs from the Act's “best scientific and commercial data” standard that applies to the Service's determination in a 12-month finding as to whether a petitioned action is in fact warranted. A 90-day finding is not based on a status review. In a 12-month finding, we will determine whether a petitioned action is warranted after we have completed a thorough status review of the species, which is conducted following a substantial 90-day finding. Because the Act's standards for 90-day and 12-month findings are different, as described above, a substantial 90-day finding does not mean that the 12-month finding will result in a warranted finding.

References Cited

A complete list of references cited is available on the Internet at http://www.regulations.gov and upon request from the appropriate lead field offices (see FOR FURTHER INFORMATION CONTACT).

Authors

The primary authors of this document are the staff members of the Branch of Listing, Ecological Services Program, U.S. Fish and Wildlife Service.

Authority

The authority for these actions is the Endangered Species Act of 1973, as amended (16 U.S.C. 1531 et seq.).

Dated: June 22, 2015.
Stephen Guertin,
Acting Director, U.S. Fish and Wildlife Service.

[FR Doc. 2015-16001 Filed 6-30-15; 8:45 am]

BILLING CODE 4310-55-P